FEDERAL COMMUNICATIONS COMMISSION

47 CFR Parts 4 and 12

[PS Docket No. 13-75; PS Docket No. 11-60; FCC 13-158]

Improving 9-1-1 Reliability; Reliability and Continuity of Communications Networks, Including Broadband Technologies

AGENCY: Federal Communications Commission.

ACTION: Correction of effective date.

SUMMARY: The Federal Communications Commission (Commission) is correcting the effective date of a final rule that appeared in the Federal Register of January 17, 2014 (79 FR 3123). The document announced the effective date of rules requiring 911 communications providers to take reasonable measures to provide reliable service, as evidenced by an annual certification of conformance with specified best practices or reasonable alternative measures to mitigate the risk of failure. The document also announced the effective date of amendments to the Commission's existing rules requiring certain communications providers to notify public safety answering points (PSAPs) of disruptions in service.

DATES: Effective February 18, 2014, except for the new or modified information collection requirements contained in § 12.4(c), (d)(1), and (d)(3), and § 4.9(h), which have not been approved by the Office of Management and Budget. The Federal Communications Commission will publish a document in the Federal Register announcing the effective date.

FOR FURTHER INFORMATION CONTACT: Eric P. Schmidt, Attorney Advisor, Public Safety and Homeland Security Bureau, (202) 418-1214 or eric.schmidt@fcc.gov. For additional information concerning the Paperwork Reduction Act information collection requirements contained in this document, contact Benish Shah, (202) 418-7866, or send an email to PRA@fcc.gov.

SUPPLEMENTARY INFORMATION: In FR Doc. 2014-00958, appearing on page 3123 in the Federal Register of Friday, January 17, 2014, the following corrections are made:

§ 4.9 [Corrected]

1. On page 3123, in the first column, in the DATES section, the text “Effective February 18, 2014, except for § 12.4(c) and (d)(1), which contain information collection requirements that have not been approved by Office of Management and Budget.” is corrected to read “Effective February 18, 2014, except for the new or modified information collection requirements contained in § 12.4(c), (d)(1), and (d)(3), and § 4.9(h), which have not been approved by the Office of Management and Budget.”

§ 4.9 [Corrected]

2. On page 3130, in the first and second columns, in paragraph 64, the text “It is further ordered that parts 0, 4, and 12 of the Commission's rules, 47 CFR Parts 0, 4, and 12, are amended, effective February 18, 2014 except for § 12.4(c) and (d)(1), which contain information collection requirements that have not been approved by Office of Management and Budget.” is corrected to read “It is further ordered that parts 0, 4, and 12 of the Commission's rules, 47 CFR Parts 0, 4, and 12, are amended, effective February 18, 2014, except for the new or modified information collection requirements contained in § 12.4(c), (d)(1), and (d)(3), and § 4.9(h), which have not been approved by the Office of Management and Budget.”

Federal Communications Commission.
Marlene H. Dortch,
Secretary, Office of the Secretary, Office of Managing Director.

[FR Doc. 2014-02825 Filed 2-7-14; 8:45 am]

BILLING CODE 6712-01-P